THE NATIONAL FOUNDATION ON THE ARTS AND HUMANITIES

Proposed Collection, Submission for OMB Review, Comment Request

AGENCY: Institute of Museum and Library Services.

ACTION: Notice of requests for information collection.

SUMMARY: The Institute of Museum and Library Services announces the following information collection has been submitted to the Office of Management and Budget for review and approval in accordance with the Paperwork Reduction Act of 1995 (Pub. L. 104-13, 44 U.S.C. Chapter 35). A copy of this proposed information collection request, with applicable supporting documentation, may be obtained by calling the Institute of Museum and Library Services, Director of Research and Technology, Rebecca Danvers at (202) 606-2478. Individual who use a telecommunications device for the deaf (TTY/TDD) may call (202) 606-8636. The Institute of Museum and Library Services is seeking clearance for a collection of application information for two grant programs: 21st Century Museum Professionals and Native American/Native Hawaiian Museum Services.

DATES: Written comments must be submitted to the office listed in the addressee section below on or before December 9, 2004.

IMLS is particularly interested in comments that help the agency to:

• Evaluate whether the proposed collection of information is necessary for the proper performance of the functions of the agency, including whether the information will have practical utility;

• Evaluate the accuracy of the agency's estimate of the burden of the proposed collocation of information including the validity of the methodology and assumptions used;

• Enhance the quality, utility and clarity of the information to be collected; and

• Minimize the burden of the collection of information on those who are to respond, including through the use of appropriate automated electronic, mechanical, or other technological collection techniques or other forms of information technology, e.g. permitting electronic submissions of responses.

ADDRESSES: Send comments to: Rebecca Danvers, Director of Research and Technology, Institute of Museum and Library Services, 1100 Pennsylvania Ave., NW., Room 223, Washington, DC 20506. Dr. Danvers can be reached on telephone: 202-606-2478 fax: 202-606-0395 or by e-mail at rdanvers@imls.gov.

SUPPLEMENTARY INFORMATION:

Background: The Institute of Museum and Library Services is an independent Federal grant-making agency authorized by the Museum and Library Services Act, 20 U.S.C. 9101, et seq. The IMLS provides a variety of grant programs to assist the nation's museums and libraries in improving their operations and enhancing their services to the public. Museums and libraries of all sizes and types may receive support from IMLS programs. The Museum and Library Services Act, 20 U.S.C. 9101, et seq. authorizes the Director of the Institute of Museum and Library Services to make grants to museums and other entities as the Director considers appropriate, and to Indian tribes and to organizations that primarily serve and represent Native Hawaiians.

I. The Institute of Museum and Library Services published an initial Notice for Requests for Information Collection in the 68 FR 42782, July 16, 2004. In response to this initial 60-day comment period, the agency received a few questions and takes this opportunity to clarify the eligibility requirements for the Native American/Native Hawaiian Museum Services grant program. IMLS's authorizing legislation requires the Director of the agency to award financial assistance under this program to eligible Native American tribes that are “recognized by the Secretary of the Interior as eligible for special programs and services provided by the United States to Indians because of their status as Indians,” as well as organizations that primarily serve and represent Native Hawaiians. See 20 U.S.C. 9101(4) and 9173(d). Museums with 501(c)3 status under the Internal Revenue Code, that are located within tribes or within the U.S., U.S. territories, or Freely-Associated States, are not eligible to apply directly to this program, but may partner with an eligible tribe or organization. In addition, museums are eligible for other IMLS grant programs, as described in the agency's program guide located at http://www.imls.gov.

The Institute of Museum and Library Services also received a small number of comments regarding the agency's guidelines for the 21st Century Museum Professionals grant program. Most responses related to the scope of professional development activities contemplated by the program. Responders suggested specific areas that could be funded through the program (e.g., financial management and scholarly research on collections). IMLS has clarified sections of the guidelines that seem to have caused confusion and misunderstanding as to the scope of the program.

II. Current Actions

To administer these programs of grants, cooperative agreements and contracts, IMLS must develop application guidelines, reports and customer service surveys.

Agency: Institute of Museum and Library Services.

Title: Application Guidelines.

OMB Number: n/a.

Agency Number: 3137.

Frequency: Annually.

Affected Public: Museums, museum organizations, Indian tribes and to organizations that primarily serve and represent Native Hawaiians.

Number of Respondents: 150.

Estimated Time Per Respondent: 10-35 hours.

Total Burden Hours: 2750.

Total Annualized Capital/Startup Costs: 0.

Total Annual Costs: 0.

Contact: Rebecca Danvers, Director of the Office of Research and Technology, Institute of Museum and Library Services, 1100 Pennsylvania Avenue, NW., Washington, DC 20506, telephone (202) 606-2478.

Dated: November 3, 2004.
Rebecca Danvers,
Director, Office of Research and Technology.

[FR Doc. 04-24894 Filed 11-8-04; 8:45 am]

BILLING CODE 7036-01-M